DEPARTMENT OF DEFENSE

Department of the Army, Corps of Engineers

Notice of Intent To Prepare an Environmental Impact Statement for the Willamette Valley System Operations and Maintenance; Correction

AGENCY: Department of the Army, U.S. Army Corps of Engineers, DoD.

ACTION: Notice; correction.

SUMMARY: The Department of the Army, Corps of Engineers published a document in the Federal Register of April 1, 2019, concerning the Portland District, U.S. Army Corps of Engineers intending to prepare an Environmental Impact Statement to address the continued operations and maintenance of the Willamette Valley System. The document contained an incorrect website address.

FOR FURTHER INFORMATION CONTACT: Suzanne Hill, Environmental Resources Specialist, (503) 808-4767.

SUPPLEMENTARY INFORMATION:

Correction

In the Federal Register of April 1, 2019, in FR Doc. 84 FR 12237, on page 12238, in the first column, under the heading “Scoping Process/Public Involvement”, the correct address is: https://www.nwp.usace.army.mil/Locations/Willamette-Valley/Evaluation/.

Amy C. Gibbons,
Chief, Environmental Resources Branch.

[FR Doc. 2019-07293 Filed 4-11-19; 8:45 am]

BILLING CODE 3720-58-P